DEPARTMENT OF JUSTICE

Notice of Lodging of Proposed Second Amendment of Consent Decree Under The Clean Air Act

On April 10, 2018, the Department of Justice lodged a proposed Second Amendment of Consent Decree (“Second Amendment”) with the United States District Court for the Eastern District of Tennessee in the lawsuit entitled United States et al. v. Cemex Inc., et al., Civil Action No. 3:16-cv-471.

This case involves claims for alleged violations of the Prevention of Significant Deterioration program of the Clean Air Act (“CAA”), CAA's Title V operating permit requirements, and related state law requirements at several Portland cement facilities. The original Consent Decree resolving the dispute included injunctive relief for installation of control technology to reduce emissions of nitrogen oxides (NOX), civil penalties, and mitigation of past excess NOX emissions. The proposed Second Amendment relates solely to requirements in the original Consent Decree applicable to two kilns at the Odessa, Texas facility. The amendment is necessitated by the technical impracticability of achieving the specified interim emission limit for NOX on Kiln 1. The proposed Second Amendment resolves this development by increasing the interim limit on Kiln 1 while accelerating the deadline for installing NOX control technology and achieving a NOX emission limit on Kiln 2. The amendment will result in a net NOX emission reduction over the life of the Consent Decree.

The publication of this notice opens a period for public comment on the Second Amendment. Comments should be addressed to the Assistant Attorney General, Environment and Natural Resources Division, and should refer to United States et al. v. Cemex Inc., et al., D.J. Ref. No. 90-5-2-1-09716. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Second Amendment may be examined and downloaded at this Justice Department website: https://www.justice.gov/enrd/consent-decrees. We will provide a paper copy of the Second Amendment upon written request and payment of reproduction costs. Please mail your request and payment to: Consent Decree Library, U.S. DOJ—ENRD, P.O. Box 7611, Washington, DC 20044-7611.

Please enclose a check or money order for $2.25 (25 cents per page reproduction cost) payable to the United States Treasury.

Henry Friedman,
Assistant Section Chief, Environmental Enforcement Section, Environment and Natural Resources Division.

[FR Doc. 2018-07832 Filed 4-13-18; 8:45 am]

BILLING CODE 4410-15-P